NUCLEAR REGULATORY COMMISSION

Sunshine Act Meeting Notice

Agency Holding the Meeting: Nuclear Regulatory Commission.

Dates: Weeks of December 16, 23, 30, 2002, January 6, 13, 20, 2003.

Place: Commissions' Conference Room, 11555 Rockville Pike, Rockville, Maryland.

Status: Public and Closed.

Matters to be Considered:

Week of December 16, 2002

Tuesday, December 17, 2002

9:30 a.m.: Briefing on Policy Options and Recommendations for Revising the NRC's Process for Handling Discrimination Issues (Public Meeting) (Contact: Ho Nieh, 301-415-1721).

This meeting will be webcast live at the Web address http://www.nrc.gov.

Wednesday, December 18, 2002

9:30 a.m.: Meeting with Advisory Committee on Nuclear Waste (ACNW) (Public Meeting) (Contact: John Larkins, 301-415-7360).

This meeting will be webcast live at the Web address http://www.nrc.gov.

3 p.m.: Discussion of Security Issues (Closed—Ex. 1).

Week of December 23, 2002—Tentative

There are no meetings scheduled for the Week of December 23, 2002.

Week of December 30, 2002—Tentative

There are no meetings scheduled for the Week of December 30, 2002.

Week of January 6, 2003—Tentative

There are no meetings scheduled for the Week of January 6, 2003.

Week of January 13, 2003—Tentative

Tuesday, January 14, 2003

10 a.m.: Briefing on Status of NRR Programs, Performance, and Plans (Public Meeting) (Contact: Darrell Roberts, 301-415-1669).

This meeting will be webcast live at the Web address http://www.nrc.gov.

Week of January 20, 2003—Tentative

Thursday, January 23, 2003

2 p.m.: Briefing on Status of NMSS Programs, Performance, and Plans—Materials Safety (Pubic Meeting)

This meeting will be webcast live at the Web address http://www.nrc.gov

Note: The schedule for Commission meetings is subject to change on short notice. To verify the status of meetings call (recording)—(301) 415-1292. Contact person for more information: R. Michelle Schroll (301) 415-1662.

* * * * *

The NRC Commission Meeting Schedule can be found on the Internet at: http://www.nrc.gov/what-we-do/policy-making/schedule.html.

* * * * *

This notice is distributed by mail to several hundred subscribers, if you no longer wish to receive it, ow would like to be added to the distribution, please contact the Office of the Secretary, Washington, DC 20555 (301-415-1969). In addition, distribution of this meeting notice over the Internet system is available. If you are interested in receiving this Commission meeting schedule electronically, please send an electronic message to dkw@nrc.gov.

Dated: December 12, 2002.
R. Michelle Schroll,
Acting Technical Coordinator, Office of the Secretary.

[FR Doc. 02-31868 Filed 12-13-02; 2:14 am]

BILLING CODE 7590-01-M